NUCLEAR REGULATORY COMMISSION

Advisory Committee on Reactor Safeguards; Revisions

The agenda for the 485th ACRS meeting, scheduled to be held on September 5-8, 2001, has been revised to reflect the changes noted below. Notice of this meeting was previously published in the Federal Register on Thursday, August 9, 2001 (66 FR 41911).

Wednesday, September 5, 2001

• The discussion of the power uprate application for the Duane Arnold Energy Center scheduled between 8:35 and 10 a.m. has been canceled due to the unavailability of the NRC staff's safety evaluation report.

• The discussion of the Proposed Resolution of Generic Safety Issue (GSI)-191, “Assessment of Debris Accumulation on PWR Sump Pump Performance” has been rescheduled to Wednesday, September 5, 2001 between 8:35 and 10 a.m.

All other items for September 5, 2001 meeting remain the same as previously announced in the Federal Register on Thursday, August 9, 2001 (66 FR 41911).

Thursday, September 6, 2001

• The discussion of the TRACG best-estimate large-break loss-of-coolant accident code has been rescheduled to Thursday, September 6, 2001 between 10:20 and 12 Noon.

• The discussion of the proposed final revision to Regulatory Guide 1.78 (DG-1089), “Main Control Room Habitability During a Postulated Hazardous Chemical Release,” has been rescheduled to 1 and 2 p.m.

• A report by the Chairman of the Thermal-Hydraulic Phenomena Subcommittee on the results of the July 17-18, 2001 meeting held at the Oregon State University has been added and scheduled between 2 and 2:30 p.m.

• The preparation of ACRS reports will start at 2:45 p.m. instead of 3:30 p.m. as previously announced.

All other items for September 6, 2001 meeting remain the same as previously announced in the Federal Register on Thursday, August 9, 2001 (66 FR 41911).

For further information contact: Dr. Sher Bahadur (telephone 301-415-0138), between 7:30 a.m. and 4:15 p.m., EDT.

Dated: August 10, 2001.
Annette Vietti-Cook,
Acting Advisory Committee Management Officer.

[FR Doc. 01-20625 Filed 8-15-01; 8:45 am]

BILLING CODE 7590-01-P